DEPARTMENT OF COMMERCE

National Oceanic and Atmospheric Administration

RIN 0648-XC354

South Atlantic Fishery Management Council; Public Meetings

AGENCY: National Marine Fisheries Service (NMFS), National Oceanic and Atmospheric Administration (NOAA), Commerce.

ACTION: Notice of public meetings of the South Atlantic Fishery Management Council.

SUMMARY: In addition to a Council Member Visioning Workshop, the South Atlantic Fishery Management Council (Council) will hold a joint meeting of its Habitat and Environmental Protection Committee and Ecosystem-Based Management Committee; meetings of its Dolphin Wahoo Committee; Southeast Data, Assessment and Review (SEDAR) Committee; Snapper Grouper Committee; Ad Hoc Data Collection Committee; Personnel Committee (CLOSED SESSION); Executive Finance Committee; and a meeting of the Full Council. The Council will take action as necessary. The Council will also hold an informal public question and answer session regarding agenda items, and a formal public comment session. See SUPPLEMENTARY INFORMATION for additional details.

DATES: The Council meeting will be held December 3-7, 2012. See SUPPLEMENTARY INFORMATION for specific dates and times.

ADDRESSES: The meeting will be held at the Hilton Wilmington Riverside Hotel, 301 North Water Street, Wilmington, NC 28401; telephone: (1-888) 324-8170 or (910) 763-5900; fax: (910) 763-0038.

Council address: South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates

1. Council Member Visioning Workshop: December 3, 2012, 9 a.m. until 12 noon.

Council members will receive a presentation on the visioning process used by the Mid-Atlantic Fishery Management Council, discuss the visioning process and provide direction to staff.

2. Joint Meeting of the Habitat and Environmental Protection Committee and Ecosystem-Based Management Committee: December 3, 2012, 1:30 p.m. until 3 p.m.

The Habitat and Environmental Protection Committee and the Ecosystem-Based Management Committee will meet jointly and will receive a report from the joint meeting of the respective advisory panels as well as a report from the Habitat and Environmental Protection Advisory Panel (AP). The joint committee will receive: an overview on Coral Amendment 7, pertaining to Coral Habitat Areas of Particular Concern (HAPCs) and transit through the Oculina Bank HAPC; and an update on ecosystem activities. The joint committee will modify Coral Amendment 7 as appropriate and will either recommend an adjustment to the timing of the amendment or recommend the amendment for public hearing.

3. Dolphin Wahoo Committee Meeting: December 3, 2012, 3 p.m. until 4 p.m.

The Dolphin Wahoo Committee will review Dolphin Wahoo Amendment 5, pertaining to bag limit sales of fish and changes to the Allowable Biological Catch (ABC) and the Annual Catch Limit (ACL). The Committee is scheduled to recommend approval of the amendment for the scoping process.

4. SEDAR Committee Meeting: December 3, 2012, 4 p.m. until 5:30 p.m. (Note: A portion of the meeting will be closed).

The SEDAR Committee will receive an activities update as well as a report from the Steering Committee. The Committee will discuss SEDAR schedules, terms of reference (TORs) and SEDAR appointments (closed session).

5. Snapper Grouper Committee Meeting: December 4, 2012, 8:30 a.m. until 5 p.m. and December 5, 2012, 8:30 a.m. until 12 noon.

The Snapper Grouper Committee will receive: an update on the status of catches versus quotas for commercial and recreational species under ACLs; an update on the status of amendments under formal review; a report from the Snapper Grouper AP meeting; and a report from the Scientific and Statistical Committee (SSC). The Committee will consider an Emergency Action to increase the commercial ACL for vermilion snapper and will receive overviews of the following amendments: Regulatory Amendment 13, regarding adjustments of snapper grouper ACLs based on Marine Recreational Fishing Statistical Survey (MRFSS)/Marine Recreational Information Program (MRIP) calibration; Regulatory Amendment 15, pertaining to management measures for yellowtail snapper and modifying the Accountability Measure (AM) for gag that currently prohibits the harvest of shallow water grouper species when the gag ACL is met; and Snapper Grouper Amendment 28, addressing framework actions to reopen the red snapper fishery. The Committee will modify these amendments as necessary and is scheduled to recommend approval of these amendments for formal review. The Committee will also receive an overview of Snapper Grouper Amendment 27, which addresses management measures for blue runner and would transfer management responsibility of yellowtail snapper, mutton snapper and Nassau grouper from the Gulf of Mexico Fishery Management Council to the South Atlantic Council. The Committee will modify the amendment as necessary and is scheduled to recommend approval of Amendment 27 for public hearing. The Committee will: discuss the use of Marine Protected Areas (MPAs) and HAPCs for speckled hind and warsaw grouper; receive a presentation on the reorientation of existing MPAs based on occurrence and habitat; and develop guidance on alternatives to be included in Snapper Grouper Regulatory Amendment 17, which involves the use of MPAs for speckled hind and warsaw grouper.

6. Ad Hoc Data Collection Committee Meeting: December 5, 2012, 1:30 p.m. until 5 p.m.

The Ad Hoc Data Collection Committee will receive presentations on: post-stratification methodology used to arrive at recreational landings estimates; and the results of the demonstration of the quota monitoring system. The Committee will receive a status update on the Joint Gulf and South Atlantic Council Generic Dealer Permit and an overview of Comprehensive Ecosystem-Based Amendment 3 (CE-BA 3). The Committee will receive guidance on actions and alternatives in CE-BA 3 and is scheduled to recommend approval of the amendment for formal review.

Note: There will be an informal public question and answer session with the NMFS Regional Administrator and the Council Chairman on December 5, 2012, beginning at 5:30 p.m.

7. Personnel Committee Meeting: December 6, 2012, 8:30 a.m. until 9:30 a.m. (closed session)

The Personnel Committee will discuss the Executive Director's performance review.

8. Executive Finance Committee Meeting: December 6, 2012, 9:30 a.m. until 11 a.m.

The Executive Finance Committee will discuss: the status of calendar year (CY) 2012 budget expenditures; the draft 2013 activities schedules; and the draft 2013 budget. The Committee will also: Discuss joint South Florida management issues and schedule 2013 meetings; develop a position on SSC review responsibilities; address Council follow-up and priorities; and discuss other issues as appropriate.

Council Session: December 6, 2012, 11 a.m. Until 5:30 p.m. and December 7, 2012, 8:30 a.m. Until 12 Noon

Council Session: December 6, 2012, 11 a.m. until 5:30 p.m.

From 11 a.m. until 11:15 a.m., the Council will call the meeting to order, adopt the agenda, and approve the September 2012 meeting minutes.

Note: A formal public comment session will be held on December 6, 2012, beginning at 11:15 a.m., on: Snapper Grouper Regulatory Amendment 13; Snapper Grouper Regulatory Amendment 15; Snapper Grouper Amendment 28; an Emergency Action to increase the commercial ACL for vermilion snapper; and Comprehensive Ecosystem-Based Amendment 3 (CE-BA 3); followed by comment on any other item on the agenda.

From 2:30 p.m. until 4:30 p.m., the Council will receive a report from the Snapper Grouper Committee and approve the following amendments for formal Secretarial review: Snapper Grouper Regulatory Amendment 13; Snapper Grouper Regulatory Amendment 15; and Snapper Grouper Amendment 28. The Council will approve Snapper Grouper Amendment 27 for public hearing and approve an Emergency Action to increase the commercial ACL for vermilion snapper. The Council will consider other Committee recommendations and take action as appropriate.

From 4:30 p.m. until 4:45 p.m., the Council will receive a report from the Ad Hoc Data Collection Committee, approve CE-BA 3 for formal Secretarial review, consider recommendations and take action as appropriate.

From 4:45 p.m. until 5 p.m., the Council will receive a report from the Joint Habitat and Environmental Protection and Ecosystem-Based Management Committees, approve Coral Amendment 7 for public hearing, consider other recommendations and take action as appropriate.

From 5 p.m. until 5:30 p.m., the Council will receive a briefing on Amendment 5 to the Highly Migratory Species (HMS) Fishery Management Plan from HMS staff. The Council will take action as appropriate.

Council Session: December 7, 2012, 8:30 a.m. Until 12 Noon

From 8:30 a.m. until 8:45 a.m., the Council will receive a legal briefing on litigation. (closed session)

From 8:45 a.m. until 9 a.m., the Council will receive a report from the SEDAR Committee, consider other recommendations and take action as appropriate.

From 9 a.m. until 9:15 a.m., the Council will receive a report from the Dolphin Wahoo Committee, approve Dolphin Wahoo Amendment 5 items for scoping, consider other recommendations and take action as appropriate.

From 9:15 a.m. until 9:30 a.m., the Council will receive a report from the Executive Finance Committee, consider other recommendations and take action as appropriate.

From 9:30 a.m. until 12 noon, the Council will receive presentations and status reports from the NOAA Southeast Regional Office (SERO) and the NMFS Southeast Fisheries Science Center (SEFSC), receive an outreach update on the Marine Resource Education Program, review agency and liaison reports, and discuss other business, including upcoming meetings.

Documents regarding these issues are available from the Council office (see ADDRESSES).

Although non-emergency issues not contained in this agenda may come before this Council for discussion, those issues may not be the subjects of formal final Council action during these meetings. Council action will be restricted to those issues specifically listed in this notice and any issues arising after publication of this notice that require emergency action under section 305(c) of the Magnuson-Stevens Act, provided the public has been notified of the Council's intent to take final action to address the emergency.

Except for advertised (scheduled) public hearings and public comment, the times and sequence specified on this agenda is subject to change.

Special Accommodations

These meetings are physically accessible to people with disabilities. Requests for sign language interpretation or other auxiliary aids should be directed to the Council office (see ADDRESSES) by November 26, 2012.

Dated: November 13, 2012.
Tracey L. Thompson,
Acting Deputy Director, Office of Sustainable Fisheries, National Marine Fisheries Service.

[FR Doc. 2012-27946 Filed 11-15-12; 8:45 am]

BILLING CODE 3510-22-P